FEDERAL COMMUNICATIONS COMMISSION

Information Collection Being Submitted for Review and Approval to the Office of Management and Budget

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before June 24, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. Also, please submit your PRA comments by email send them to: PRA@fcc.gov.

FOR FURTHER INFORMATION CONTACT: Judith B. Herman, Office of Managing Director, FCC, at 202-418-0214.

SUPPLEMENTARY INFORMATION:

OMB Control Number: 3060-1030.

Title: Service Rules for Advanced Wireless Services (AWS) in the 1.7 GHz and 2.1 GHz Bands.

Form No.: N/A.

Type of Review: Revision of a currently approved collection.

Respondents: Business or other for-profit, not-for-profit institutions, Federal Government and state, local or tribal government.

Number of Respondents: 979 respondents; 1,625 responses.

Estimated Time per Response: .25 hours to 5 hours.

Frequency of Response: Annual, on occasion, one time and every 10 reporting requirements, recordkeeping requirements, and third party disclosure requirements.

Obligation to Respond: Required to obtain or retain benefits. Statutory authority for this information collection is contained in 47 U.S.C. sections 151, 152, 154(i), 201, 301, 302, 303(f), 303(g), 303(r), 307, 308, 309, 310, 316, 319, 34, 332, and 333 of the Communications Act of 1934, as amended, and the Commercial Spectrum Enhancement Act (CSEA), Pub. L. 108-494, 118 Stat 3896, 3992 (2004).

Total Annual Burden: 32,386 hours.

Total Annual Cost: $581,800.

Privacy Act Impact Assessment: N/A.

Nature and Extent of Confidentiality: There is no need for confidentiality except as follows: some relocators that seek reimbursement through the FCC cost-sharing plan administered by the clearinghouses will be required to retain records for more than three years, as will the clearinghouses themselves.

Needs and Uses: The Commission will submit this information collection during this comment period to obtain the full, three year clearance from the Office of Management and Budget (OMB). The Commission is requesting approval for a revision. There is a change to the Commission's previous burden estimates. The Commission is now reporting a seven hour adjustment in the total annual burden which is due to an increase in the estimated number of AWS licensees based on the grant of additional initial licenses (FCC Auction 78) and partitions and disaggregations of existing licenses to new licensees (765 incumbent FS licensees, 200 AWS licensees, 10 incumbent BRS licensees, 2 AWS-4 operators and 2 clearinghouses) = 979 respondents.

The Commission in the revisions proposed in the AWS-4 NPRM, FCC 12-32, which was submitted for OMB approval, proposed terrestrial service, technical, assignment and licensing rules for the 2000-2020 MHz and 2180-2200 MHz spectrum bands. These proposed rules were designed to provide for flexible use of this spectrum, to encourage innovation and investment in mobile broadband, and to provide a stable regulatory environment in which broadband deployment could develop. The AWS-4 NPRM proposed terrestrial service rules for these spectrum bands that would generally follow the Commission's Part 27 rules, which apply to flexible use services (such as AWS-1), modified as necessary to account for issues unique to the 2000-2020 MHz and 2180-2200 MHz bands. The proposals in the AWS-4 NPRM included band-specific buildout, renewal, and discontinuance of service criteria. Given the proximity of these spectrum bands to spectrum bands previously identified as Advanced Wireless Services (AWS), the AWS-4 NPRM referred to these spectrum bands as “AWS-4” or “AWS-4 spectrum”. The AWS-4 NPRM proposed to expand spectrum available for AWS, which the Commission first adopted in the AWS-1 Report and Order.

For this revision, subject to OMB approval, the Commission in the AWS-4 Report and Order, FCC 12-151, adopts flexible use rules for 40 megahertz of spectrum in the 2 GHz band (2000-2020 MHz and 2180-2200 MHz) that would increase the nation's supply of spectrum for mobile broadband. We adopt AWS-4 terrestrial service, technical, and licensing rules that generally follow the Commission's Part 27 flexible use rules, modified as necessary to account for issues unique to the AWS-4 bands.

Recordkeeping, reporting and third party disclosure requirements associated with the items listed in paragraph one of the supporting statement that is submitted to OMB for approval, will be used by incumbent licensees and new entrants to negotiate relocation agreements and to coordinate operations to avoid interference. The information will also be used by the clearinghouses to maintain a national database, determine reimbursement obligations of entrants pursuant to the Commission's rules, and notify such entrants of their reimbursement obligations. Additionally, the information will be used to facilitate dispute resolution and for FCC oversight of the clearinghouses and the cost-sharing plan.

Federal Communications Commission.
Gloria J. Miles,
Federal Register Liaison, Office of the Secretary, Office of Managing Director.

[FR Doc. 2013-12440 Filed 5-23-13; 8:45 am]

BILLING CODE 6712-01-P